DEPARTMENT OF COMMERCE

National Oceanic and Atmospheric Administration

RIN 06048-XC401

Endangered and Threatened Species; Take of Anadromous Fish

AGENCY: National Marine Fisheries Service (NMFS), National Oceanic and Atmospheric Administration (NOAA), Commerce.

ACTION: Notice of final determination and discussion of underlying biological analysis.

SUMMARY: NMFS has evaluated the joint resource management plan (RMP), represented by five Hatchery and Genetic Management Plans (HGMPs), submitted by the Lower Elwha Klallam Tribe and the Washington Department of Fish and Wildlife to NMFS pursuant to the limitation on take prohibitions for actions conducted under Limit 6 of the ESA 4(d) Rule for salmon and steelhead promulgated under the Endangered Species Act (ESA). The plans specify the propagation of five species of salmon and steelhead in the Elwha River of Washington state. This document serves to notify the public that NMFS, by delegated authority from the Secretary of Commerce, has determined pursuant to Limit 6 of the 4(d) rule for salmon and steelhead that implementing and enforcing the RMP will not appreciably reduce the likelihood of survival and recovery of the Puget Sound Chinook salmon and Puget Sound steelhead.

DATES: The final determination on the take limit was made on December 10, 2012.

ADDRESSES: Written responses to the determination should be sent to the Salmon Management Division, 1201 NE. Lloyd Boulevard, Suite 1100, Portland, OR 97232.

FOR FURTHER INFORMATION CONTACT: Tim Tynan at (360) 753-9579 or email: tim.tynan@noaa.gov.

SUPPLEMENTARY INFORMATION:

ESA-Listed Species Covered in This Notice

Chinook salmon (Oncorhynchus tshawytscha): Threatened, Puget Sound, naturally produced and artificially propagated.

Steelhead (O. mykiss): Threatened, Puget Sound, naturally produced and artificially propagated.

Background

The plans describe hatchery operations intended to protect five species of salmon and steelhead (two of them ESA-listed) during the removal of two dams on the Elwha River, and subsequent propagation intended to enhance the rebuilding of those salmonids species. Four of the plans are submitted by the Lower Elwha Klallam Tribe, and one by the Washington Department of Fish and Wildlife (WDFW); the plans were developed jointly by the Tribe and the WDFW. NMFS has determined that implementing and enforcing the RMP will not appreciably reduce the likelihood of survival and recovery of ESA-listed Puget Sound Chinook salmon or Puget Sound steelhead.

As required by § 223.203(b)(6) of the ESA 4(d) rule, NMFS must determine pursuant to 50 CFR 223.209 and pursuant to the government-to-government processes therein whether the RMP for Elwha River basin hatcheries would appreciably reduce the likelihood of survival and recovery of the Puget Sound Chinook Salmon ESU or Puget Sound Steelhead DPS. NMFS must take comments on how the RMP addresses the criteria in § 223.203(b)(5) in making that determination.

Discussion of the Biological Analysis Underlying the Determination

The proposed hatchery activities described in the RMP are intended to conserve salmon and steelhead populations in the Elwha River basin during operations to remove two dams on the Elwha River, and for a period of time after the dams have been removed, as the environment improves. The RMP provides the framework through which the Tribal and the State of Washington can jointly manage Elwha River salmon and steelhead hatchery, monitoring, and evaluation activities while meeting requirements specified under the ESA. The proposed action covers continued operation of the five hatchery programs over the initial phases of fish restoration in the Elwha River—the preservation and recolonization phases—with transitions between phases gauged by achievement of population viability parameters for listed Chinook salmon and steelhead. The programs would continue to be operated to minimize any impacts on genetic integrity of the natural salmon and steelhead populations while providing the intended benefits. The benefits include preserving and assisting in the recolonization of Elwha River salmon and steelhead during, and for a period following, dam removal when natural productivity conditions will be poor.

The hatchery programs would add marine-derived nutrients to the aquatic and terrestrial ecosystems above Glines Canyon Dam, which have been inaccessible to salmon and steelhead since the early 1900s. The programs would increase total and natural-origin abundance and spatial structure of the Chinook salmon population as hatchery-origin fish return to spawn naturally with wild fish and new habitat becomes available. The hatchery programs would protect the Elwha River salmon and steelhead populations when turbidity levels are high and detrimental to natural-origin fish survival due to dam removal activities. The proposed plans are interrelated and interdependent through shared population preservation and recolonization objectives and effects, broodstock collection locations and actions, fish rearing and release sites, monitoring and evaluation actions, and funding sources.

The RMP includes provisions for annual reports that will assess compliance with performance standards established through the RMP. Reporting and inclusion of new information derived from RMP research, monitoring, and evaluation activities provides assurance that performance standards will be achieved in future seasons. NMFS' evaluation is available on the NMFS Northwest Region Web site at http://www.nwr.noaa.gov.

Summary of Comments Received in Response to the Proposed Evaluation and Pending Determination

NMFS published notice of its proposed evaluation and pending determination on the RMP for public review and comment on October 16, 2012 (77 FR 63294). The proposed evaluation and pending determination and an associated draft environmental assessment were available for public review and comment for 30 days.

NMFS received four sets of comments: Three from Tribal organizations and one on behalf of several environmental groups. Several comments were addressed in NMFS' final Evaluation and Recommended Determination document, but no substantive changes to the RMP were required. A detailed summary of the comments and NMFS' responses is also available on the NMFS Northwest Region Web site. Based on its evaluation and recommended determination and taking into account the public comments, NMFS issued its final determination on the Elwha River basin salmon and steelhead hatchery RMP.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to actions undertaken in compliance with an RMP developed jointly by the State of Washington and the Tribe and determined by NMFS to be in accordance with the salmon and steelhead 4(d) rule (65 FR 42422, July 10, 2000).

Dated: December 17, 2012.
Angela Somma,
Chief, Endangered Species Division, Office of Protected Resources, National Marine Fisheries Service.

[FR Doc. 2012-30834 Filed 12-20-12; 8:45 am]

BILLING CODE 3510-22-P